DEPARTMENT OF COMMERCE

National Oceanic and Atmospheric Administration

RIN 0648-ZB93

Vessel Monitoring Systems (VMS); Revision of the Enhanced Mobile Transmitter Unit (E-MTU) Reimbursement Program

AGENCY: National Marine Fisheries Service (NMFS), National Oceanic and Atmospheric Administration (NOAA), Commerce.

ACTION: Notice.

SUMMARY: NMFS revises the availability of grant funds for vessel owners and/or operators who have purchased an Enhanced Mobile Transmitter Unit (E-MTU) for the purpose of complying with fishery regulations requiring the use of Vessel Monitoring Systems (VMS). These funds will be used to reimburse vessel owners and/or operators for the purchase price of the E-MTU. This notice supersedes all previous notices on VMS MTU or E-MTU reimbursement.

FOR FURTHER INFORMATION CONTACT: For current listing information, questions regarding VMS installation or activation checklists, contact the VMS Support Center, NOAA Fisheries Office for Law Enforcement (OLE), 8484 Georgia Avenue, Suite 415, Silver Spring, MD 20910, phone 888-219-9228, fax 301-427-0049.

For questions regarding E-MTU type approval or information regarding the status of VMS systems being evaluated by NOAA for approval, contact Jonathan Pinkerton, National VMS Program Manager, phone 301-427-2300; fax 301-427-2055.

For questions regarding reimbursement applications contact Randy Fisher, Executive Director, Pacific States Marine Fisheries Commission (PSMFC), 205 SE Spokane Street, Suite 100, Portland, OR 97202, phone 503-595-3100, fax 503-595-3232.

SUPPLEMENTARY INFORMATION:

I. Funding Opportunity Description

This reimbursement opportunity is available to fishing vessel owners and/or operators that have purchased an approved E-MTU device in order to comply with fishery regulations developed in accordance with 16 U.S.C. 1801 et seq. Only those vessel owners and/or operators purchasing an E-MTU for compliance with fishery management regulations are eligible for this funding opportunity. The reimbursable expense is the purchase price of a type-approved E-MTU for which the owner and/or operator holds a valid commercial fishing permit or license, not to exceed a maximum of $3,100.00.

II. Eligibility

To be eligible to receive reimbursement vessel owners and/or operators must first purchase an E-MTU type-approved for a VMS required fishery from an authorized E-MTU dealer and receive a receipt of purchase from the authorized E-MTU dealer. The vessel owner and/or operator must have the E-MTU properly installed by an authorized dealer or installer on the vessel and activated utilizing a type-approved communications provider. Upon completion of the installation and activation process, the vessel owner and/or operator must contact the VMS Support Center by calling 888-219-9228 to ensure the vessel is properly activated and registered in the VMS system. OLE does not consider a vessel in compliance with activation and registration procedures until the E-MTU signal has been received and processed by OLE.

Vessel owners and/or operators must not be in arrears with a payment owed to the Agency for a civil monetary penalty. Affected vessel owners and/or operators may become eligible for the reimbursement if the outstanding penalty is paid in full within 30 days of the denial of the reimbursement. After payment, vessel owners and/or operators must contact the VMS Support Center and provide documentation to support the defrayment of the penalty to receive a confirmation code for reimbursement purposes.

III. Process

Vessel owners and/or operators that have purchased an E-MTU, and have validated their compliance with the applicable regulations through OLE, may contact the PSMFC, 205 SE Spokane Street, Suite 100, Portland, Oregon 97202, phone 503-595-3100, fax 503-595-3232, for a reimbursement application. Once the application is received and completed by the vessel owner and/or operator, it must be returned to PSMFC along with proof of eligibility in order to qualify for an award. The minimum required proof of eligibility includes proof of authorized operation of a commercial fishing vessel in a VMS required fishery; purchase receipt from an authorized E-MTU dealer, purchase price of a type-approved E-MTU; and a valid compliance confirmation code issued by OLE. Additional documentation may be required for eligibility in particular fisheries. Vessel owners and/or operators should contact PSFMC for a complete listing documentation requirements.

Vessel owners and/or operators are not restricted as to which type-approved E-MTU device they can purchase. However, the amount of the reimbursement will be limited to the cost of the E-MTU type-approved for the fishery, and will not exceed a maximum of $3,100.00. Vessel owners and/or operators are encouraged to compare the features of all E-MTU devices type-approved for the VMS required fishery of interest and explore finance options prior to making a purchase decision. Reimbursement is limited to the cost of purchasing one E-MTU per registered vessel.

Dated: April 30, 2008.
Samuel D. Rauch III
Deputy Assistant Administrator for Regulatory Programs, National Marine Fisheries Service.

[FR Doc. E8-9994 Filed 5-5-08; 8:45 am]

BILLING CODE 3510-22-S